DEPARTMENT OF ENERGY

Federal Energy Regulatory Commission

Combined Notice of Filings #1

Take notice that the Commission received the following electric corporate filings:

Docket Numbers: EC21-103-000.

Applicants: Rainbow Energy Center, LLC, Nexus Line, LLC.

Description: Application for Authorization Under Section 203 of the Federal Power Act of Nexus Line, LLC, et al.

Filed Date: 7/8/21.

Accession Number: 20210708-5071.

Comments Due: 5 p.m. ET 7/29/21.

Take notice that the Commission received the following electric rate filings:.

Docket Numbers: ER10-1910-021; ER10-1911-021.

Applicants: Duquesne Light Company, Duquesne Power, LLC.

Description: Notice of Change in Status of Duquesne Light Company, et al.

Filed Date: 7/7/21.

Accession Number: 20210707-5129.

Comments Due: 5 p.m. ET 7/28/21.

Docket Numbers: ER20-2719-001.

Applicants: Ringer Hill Wind, LLC.

Description: Report Filing: Refund Report to be effective N/A.

Filed Date: 7/8/21.

Accession Number: 20210708-5044.

Comments Due: 5 p.m. ET 7/29/21.

Docket Numbers: ER21-1647-001.

Applicants: Central Hudson Gas & Electric Corporation, Consolidated Edison Company of New York, Inc., Orange and Rockland Utilities, Inc., Niagara Mohawk Power Corporation, Rochester Gas and Electric Corporation, New York State Electric & Gas Corporation, New York Independent System Operator, Inc.

Description: Tariff Amendment: Deficiency response on behalf of NYTOs re: TO Funding of Tra to be effective 9/7/2021.

Filed Date: 7/8/21.

Accession Number: 20210708-5069.

Comments Due: 5 p.m. ET 7/29/21.

Docket Numbers: ER21-2374-000.

Applicants: ALLETE, Inc.

Description: § 205(d) Rate Filing: Certificate of Concurrence (Fargo CMA) to be effective 4/24/2013.

Filed Date: 7/8/21.

Accession Number: 20210708-5038.

Comments Due: 5 p.m. ET 7/29/21.

Docket Numbers: ER21-2375-000.

Applicants: ALLETE, Inc.

Description: § 205(d) Rate Filing: Certificate of Concurrence (Fargo OMA) to be effective 4/24/2013.

Filed Date: 7/8/21.

Accession Number: 20210708-5040.

Comments Due: 5 p.m. ET 7/29/21.

Docket Numbers: ER21-2376-000.

Applicants: ALLETE, Inc.

Description: § 205(d) Rate Filing: Certificate of Concurrence (Fargo TCEA) to be effective 4/24/2013.

Filed Date: 7/8/21.

Accession Number: 20210708-5043.

Comments Due: 5 p.m. ET 7/29/21.

Docket Numbers: ER21-2377-000.

Applicants: Southern California Edison Company.

Description: § 205(d) Rate Filing: First Amendment LGIA Athos Power Plant Project SA No. 227 TOT849 to be effective 7/9/2021.

Filed Date: 7/8/21.

Accession Number: 20210708-5061.

Comments Due: 5 p.m. ET 7/29/21.

Docket Numbers: ER21-2378-000.

Applicants: National Grid Generation LLC.

Description: § 205(d) Rate Filing: Annual Reset of Pension and OPEB Expenses to be effective 1/1/2021.

Filed Date: 7/8/21.

Accession Number: 20210708-5086.

Comments Due: 5 p.m. ET 7/29/21.

Docket Numbers: ER21-2379-000.

Applicants: Rainbow Energy Center, LLC.

Description: Baseline eTariff Filing: Rainbow Energy Center, LLC MBR Application Filing to be effective 8/31/2021.

Filed Date: 7/8/21.

Accession Number: 20210708-5101.

Comments Due: 5 p.m. ET 7/29/21.

Docket Numbers: ER21-2380-000.

Applicants: EDF Trading North America, LLC.

Description: Compliance filing: Compliance Justification filing 2021 to be effective N/A.

Filed Date: 7/8/21.

Accession Number: 20210708-5119.

Comments Due: 5 p.m. ET 7/29/21.

Docket Numbers: ER21-2381-000.

Applicants: Wisconsin Electric Power Company.

Description: § 205(d) Rate Filing: Formula Rate Update Filing for 2020 Rate Year to be effective 9/7/2021.

Filed Date: 7/8/21.

Accession Number: 20210708-5121.

Comments Due: 5 p.m. ET 7/29/21.

Take notice that the Commission received the following electric reliability filings.

Docket Numbers: RD21-5-000.

Applicants: North American Electric Reliability Corporation.

Description: Petition of the North American Electric Reliability Corporation For Approval of Proposed Reliability Standards EOP-011-2, IRO-010-4, and TOP-003-5 and Request for Expedited Action.

Filed Date: 6/17/21.

Accession Number: 20210617-5165.

Comments Due: 5 p.m. ET 7/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2021.
Debbie-Anne A. Reese,
Deputy Secretary.

[FR Doc. 2021-15147 Filed 7-15-21; 8:45 am]

BILLING CODE 6717-01-P